NUCLEAR REGULATORY COMMISSION

[Docket No. 50-237]

Exelon Generation Company, LLC; Dresden Nuclear Power Station, Unit 2; Environmental Assessment and Finding of No Significant Impact

The U.S. Nuclear Regulatory Commission (NRC) is considering issuance of an exemption from certain requirements of 10 CFR 50.55a(g)(6)(ii)(B), “Expedited Examination of Containment,” for Facility Operating License No. DPR-19, issued to Exelon Generation Company, LLC (Exelon, or the licensee) for operation of the Dresden Nuclear Power Station, Unit 2, located in Grundy County, Illinois. Therefore, as required by 10 CFR 51.21, the NRC is issuing this environmental assessment and finding of no significant impact.

Environmental Assessment

Identification of the Proposed Action

The licensee has requested a schedular exemption for Dresden Nuclear Power Station (DNPS), Unit 2, for implementation of inservice examinations of the containment prior to September 9, 2001, as required by 10 CFR 50.55a(g)(6)(ii)(B), “Expedited Examination of Containment.” This schedular exemption is requested to extend the implementation date by a maximum of 90 days to allow completion of first period examinations during the next refueling outage for Unit 2, D2R17, currently scheduled to begin in October 2001.

The proposed action is in accordance with the licensee's application dated December 8, 2000, as supplemented by letter dated February 2, 2001.

The Need for the Proposed Action

The proposed schedular exemption is needed to prevent a forced shutdown of Dresden Nuclear Power Station, Unit 2. 10 CFR 50.55a(g)(6)(ii)(B) requires that licensees of all operating nuclear power plants shall implement the inservice examinations for the first period of the first inspection interval specified in ASME Subsection IWE of the 1992 Edition with the 1992 Addenda in conjunction with the modifications specified in 10 CFR 50.55a(b)(2)(ix) by September 9, 2001. The last opportunity to complete the first period containment examinations was during the last refueling outage, D2R16, completed on October 27, 1999. During that outage, the licensee made good faith efforts to complete the necessary inservice examinations. However, the licensee has subsequently determined that a number of examinations must be re-performed. Without the requested schedular exemption, the licensee would be forced to shut down the facility in order to complete the inservice examinations required by regulation.

Areas accessible for inspection during normal operation will be completed by September 9, 2001. However, the next available opportunity to perform all the remaining containment examinations is the next refueling outage, which is scheduled to begin in October 2001. Previous Unit 2 containment inspections have not identified any areas of containment degradation that could impact the structural integrity of containment. A general visual examination of accessible surface areas was performed during the D2R16 refueling outage. The general visual examination was preformed in accordance with the ASME B&PV Code Section XI, 1992 Edition with 1992 Addenda and included accessible surface areas of the containment structure and containment penetrations. The requested 90-day extension is of relatively short duration that would not permit a significant increase in any degradation that has developed since the previous general visual examination performed during D2R16.

If a separate outage were required to perform containment inspections in accordance with the current inspection implementation date, DNPS, Unit 2, would be subject to undue hardships or other costs that result from lost generation. Therefore, an extension of the September 9, 2001, implementation date is requested.

10 CFR 50.12 permits the Nuclear Regulatory Commission to grant exemptions which are authorized by law, will not present undue risk to the health and safety of the public, and are consistent with the common defense and security, provided that special circumstances are present. Pursuant to 10 CFR 51.12 (a)(2), the Commission believes that special circumstances exist in that the requested schedular extension is required to prevent the forced shutdown of DNPS, Unit 2. Preparations for a refueling outage are proceeding based on a scheduled shutdown in October 2001. A separate outage would present undue hardship and costs due to lost generation and increased radiological exposure to DNPS personnel. The requested exemption will only provide temporary relief from the applicable regulation and does not jeopardize the health and safety of the public.

Environmental Impacts of the Proposed Action

The Commission has completed its evaluation of the proposed action and concludes that there are no significant adverse environmental impacts associated with the proposed action.

The proposed action will not significantly increase the probability or consequences of accidents, no changes are being made in the types of any effluents that may be released offsite, and there is no significant increase in occupational or public radiation exposure. Therefore, there are no significant radiological environmental impacts associated with the proposed action.

With regard to potential non-radiological environmental impacts, the proposed action does not involve any historic sites. It does not affect non-radiological plant effluents and has no other environmental impact. Therefore, there are no significant non-radiological impacts associated with the proposed action.

Accordingly, the Commission concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the Dresden Nuclear Power Station, Units 2 and 3, dated November 1973.

Agencies and Persons Consulted

On July 24, 2001, the staff consulted with the Illinois State official, Frank Niziolek, of the Illinois Department of Nuclear Safety, regarding the environmental impact of the proposed action. The State official had no comments.

Finding of No Significant Impact

On the basis of the environmental assessment, the NRC concludes that the proposed action will not have a significant effect on the quality of the human environment. Accordingly, the Commission has determined not to prepare an environmental impact statement for the proposed action.

For further details with respect to the proposed action, see the licensee's letter dated December 8, 2000, as supplemented by letter dated February 2, 2001. Documents may be examined, and/or copied for a fee, a the NRC's Public Document Room, located at One White Flint North, 11555 Rockville Pike (first floor), Rockville, Maryland. Publically available records will be accessible electronically from the ADAMS Public Library component on the NRC Web site, http://www.nrc.gov (the Public Electronic Reading Room). If you do not have access to ADAMS or if there are problems in accessing the documents located in ADAMS, contact the NRC Public Document Room (PDR) Reference staff at 1-800-397-4209, or 301-415-4737, or by e-mail at pdr@nrc.gov.

Dated at Rockville, Maryland, this 22nd day of August 2001.
For the Nuclear Regulatory Commission.
S. Singh Bajwa,
Project Director, Project Directorate III, Division of Licensing Project Management, Office of Nuclear Reactor Regulation.

[FR Doc. 01-21936 Filed 8-29-01; 8:45 am]

BILLING CODE 7590-01-P